DEPARTMENT OF LABOR

Employment and Training Administration

[NAFTA-05079]

Neles Automation USA, Inc., Metso Automation USA, Inc., Houston Delivery Center, Houston, TX; Amended Certification Regarding Eligibility to Apply for NAFTA-Transitional Adjustment Assistance

In accordance with section 250(A), Subchapter D, Chapter 2, Title II, of the Trade Act of 1974 (19 U.S.C. 2273), the Department of labor issued a Certification for NAFTA Transitional Adjustment Assistance on August 29, 2001, applicable to workers of Neles Automation USA, Inc., Houston Delivery Center, Houston, Texas. The notice was published in the Federal Register on September 11, 2001 (66 FR 47242).

At the request of the State agency, the Department reviewed the certification for workers of the subject firm. The workers are engaged in the production of industrial valves and controls (ball valves and butterfly valves). New information shows that Metso Automation USA, Inc. is the parent firm of Neles Automation USA, Inc., Houston Delivery Center, Houston, Texas.

Information also shows that workers separated from employment at the subject firm had their wages reported under a separate unemployment insurance (UI) tax account for Metso Automation USA, Inc.

Accordingly, the Department is amending the certification to properly reflect this matter.

The intent of the Department's certification is to include all workers of Neles Automation USA, Inc., Houston Delivery Center, Houston, Texas who were adversely affected by a shift of production of industrial valves and controls (ball valves and buttlerfly valves) to Mexico.

The amended notice applicable to NAFTA—05079 is hereby issued as follows:

All workers of Neles Automation USA, Inc., Metso Automation USA, Inc., Houston Delivery Center Houston, Texas who became totally or partially separated from employment on or after July 13, 2000, through August 29, 2003, are eligible to apply for NAFTA-TAA under Section 250 of the Trade Act of 1974.

Signed at Washington, D.C. this 28th day of September, 2001.
Linda G. Poole,
Certifying Officer, Division of trade Adjustment Assistance.

[FR Doc. 01-26044 Filed 10-16-01; 8:45 am]

BILLING CODE 4510-30-M